DEPARTMENT OF COMMERCE

Office of the General Counsel; Request for Public Comments on Dispute Resolution Issues Relating to Section 3002(b) of the Anticybersquatting Consumer Protection Act

AGENCY: Department of Commerce.

ACTION: Notice; 15-day re-opening of comment period.

SUMMARY: Pursuant to public request, the Department of Commerce re-opens for an additional 15 days the response period for our request for public comments and suggestions concerning the “Anticybersquatting Consumer Protection Act” (or “the Act”) (Public Law 106-113) and the resolution of Internet domain name disputes involving the personal names of individuals. The original notice and request for comments was published on February 29, 2000, with written comments to be provided by March 30, 2000 (65 FR 10763). Detailed background information, as well as the scope of this request, may be found in the above-cited Federal Register notice.

DATES: Written comments must be received no later than April 21, 2000. Under no circumstances shall any written comments received after April 21, 2000 be considered by the Department of Commerce.

ADDRESSES: Please address written comments to: Department of Commerce, Room 5876; 14th & Constitution Avenues, NW; Washington, DC 20230, marked as “Public Comments” to the attention of Sabrina McLaughlin, Office of General Counsel. If possible, paper submissions should be accompanied by disks formatted in WordPerfect, Microsoft Word, or ASCII. As an alternate means of submission, comments may be transmitted by facsimile to Sabrina McLaughlin at (202) 482-0512. Electronic submissions may be directed to DomainName@doc.gov. Any accompanying diskettes should be labeled with the name of the party submitting comment and the version of the word processing program used to create the document.

FOR FURTHER INFORMATION CONTACT: Sabrina McLaughlin by telephone at (202) 482-4265, by mail to her attention addressed to: Department of Commerce, Room 5876; 14th & Constitution Avenues, NW; Washington, DC 20230, or by electronic mail at DomainName@doc.gov.

SUPPLEMENTARY INFORMATION: The Department of Commerce has determined that it is appropriate to re-open the record for public comment in order: (1) To officially accommodate the significant number of comments being filed somewhat beyond the original comment deadline; and (2) to ensure that the Department receives the benefit of broad public perspectives as the Department, in consultation with the United States Patent and Trademark Office and the Federal Election Commission, proceeds to study and to recommend to Congress appropriate guidelines and procedures for resolving disputes involving the registration or use by a person of a domain name that includes the personal name of another person, in whole or in part, or a name confusingly similar thereto. The Department's guidelines and recommendations will take the form of a Report to Congress, as required under section 3006 of the Act.

The Department will not be posting comments online. However, because all submissions received pursuant to a solicitation for public comment are treated as public information, respondents should not submit materials that they do not desire to be made public.

Dated: April 3, 2000.
Andrew J. Pincus,
General Counsel.

[FR Doc. 00-8588 Filed 4-5-00; 8:45 am]

BILLING CODE 3510-BW-P